DEPARTMENT OF DEFENSE

Department of the Navy

[Docket ID USN-2010-0045]

Privacy Act of 1974; System of Records

AGENCY: Department of the Navy, DoD.

ACTION: Notice to amend a system of records.

SUMMARY: The Department of the Navy proposes to amend a system of records in its inventory of record systems subject to the Privacy Act of 1974 (5 U.S.C. 552a), as amended.

DATES: The changes will be effective on January 18, 2011 unless comments are received that would result in a contrary determination.

ADDRESSES: You may submit comments, identified by docket number and/Regulatory Information Number (RIN) and title, by any of the following methods:

* Federal Rulemaking Portal: http://www.regulations.gov. Follow the instructions for submitting comments.

* Mail: Federal Docket Management System Office, Room 3C843, 1160 Defense Pentagon, Washington, DC 20301-1160.

Instructions: All submissions received must include the agency name and docket number or Regulatory Information Number (RIN) for this Federal Register document. The general policy for comments and other submissions from members of the public is to make these submissions available for public viewing on the Internet at http://www.regulations.gov as they are received without change, including any personal identifiers or contact information.

FOR FURTHER INFORMATION CONTACT: Mrs. Miriam Brown-Lam, HEAD, FOIA/Privacy Act Policy Branch, the Department of the Navy, 2000 Navy Pentagon, Washington, DC 20350-2000, or at (202) 685-6545.

SUPPLEMENTARY INFORMATION: The Department of the Navy systems of records notice subject to the Privacy Act of 1974, (5 U.S.C. 552a), as amended, has been published in the Federal Register and is available from the FOR FURTHER INFORMATION CONTACT address above.

The specific changes to the record system being amended are set forth below followed by the notice, as amended, published in its entirety. The proposed amendment is not within the purview of subsection (r) of the Privacy Act of 1974 (5 U.S.C. 552a), as amended, which requires the submission of new or altered systems reports.

Dated: December 9, 2010.
Morgan F. Park,
Alternate OSD Federal Register Liaison Officer, Department of Defense.

N07220-1

System name:

Navy Standard Integrated Personnel System (NSIPS) (August 4, 2006, 71 FR 44266).

Changes:

* * * * *

System location:

Delete entry and replace with “Policy Official: Naval Support Activity Midsouth, 5722 Integrity Drive, Bldg. 456, Millington, TN 38054-5045 for records of all active duty and reserve members.

Primary locations: Personnel Offices and Personnel Support Detachments providing administrative support for the local activity where the individual is assigned. Official mailing addresses are published in the Standard Navy Distribution List.

Secondary locations: Director, National Personnel Records Center, Military Personnel Records, 9700 Page Avenue, St. Louis, MO 63132-5100, for records of retired or former personnel 62 years after retirement or discharged from the U.S. Navy.”

* * * * *

Storage:

Delete entry and replace with “Paper and automated records maintained by Space and Warfare Systems Center Atlantic.”

* * * * *

Retention and disposal:

Delete entry and replace with “Records will be maintained by the primary record holder for current U.S. Navy members, and for 62 years after retirement or discharged from the U.S. Navy. Thereafter, records will be maintained by the secondary record holder at the National Personnel Records Center.”

System manager(s) and address:

Delete entry and replace with “Policy Official: Commander, Navy Personnel Command (PERS-33), 5720 Integrity Drive, Millington, TN 38055-3120.

Primary Record Holder: Personnel Office or Personnel Support Detachment that provides administrative support for the local activity where assigned. Official mailing addresses are published in the Standard Navy Distribution List.

Secondary locations: Director, National Personnel Records Center, Military Personnel Records, 9700 Page Avenue, St. Louis, MO 63132-5100, for records of retired or former personnel 62 years after retirement or discharged from the U.S. Navy.”

Notification procedure:

Delete entry and replace with “Individuals seeking to determine whether this system of records contains information about themselves should address written inquiries to the Personnel Office or Personnel Support Detachment providing administrative support for the local activity where they are assigned. Official mailing addresses are published in the Standard Navy Distribution List.

Secondary location: Director, National Personnel Records Center, Military Personnel Records, 9700 Page Avenue, St. Louis, MO 63132-5100, for records of retired or former personnel 62 years after retirement or discharge from the U.S. Navy.

The request should include full name, Social Security Number (SSN), and address of the individual concerned and should be signed. The system manager may require an original signature or a notarized signature as a means of proving the identity of the individual requesting access to the records.”

Record access procedure:

Delete entry and replace with “Individuals seeking access to records about themselves should address written inquiries to the Personnel Office or Personnel Support Detachment providing administrative support for the local activity where they are assigned. Official mailing addresses are published in the Standard Navy Distribution List.

Secondary location: Director, National Personnel Records Center, Military Personnel Records, 9700 Page Avenue, St. Louis, MO 63132-5100, for records of retired or former personnel 62 years after retirement or discharge from the U.S. Navy.

Written requests should contain full name, Social Security Number (SSN), and address of the individual concerned and should be signed. The system manager may require an original signature or a notarized signature as a means of proving the identity of the individual requesting access to the records.”

* * * * *

Records source categories:

Delete entry and replace with “Official records and systems maintaining personnel information, professional qualifications, and educational institutions. These records and systems include the Navy Military Personnel Records System, Enlisted Master File Automated System, Officer Master File Automated System, Reserve Command Management System, On-Line Distribution Information System, and Education and Training Records.”

* * * * *

N07220-1

System name:

Navy Standard Integrated Personnel System (NSIPS).

System location:

Policy Official: Naval Support Activity Midsouth, 5722 Integrity Drive, Bldg 456, Millington, TN 38054-5045 for records of all active duty and reserve members.

Primary locations: Personnel Offices and Personnel Support Detachments providing administrative support for the local activity where the individual is assigned. Official mailing addresses are published in the Standard Navy Distribution.

Secondary locations: Director, National Personnel Records Center, Military Personnel Records, 9700 Page Avenue, St. Louis, MO 63132-5100, for records of retired or former personnel 62 years after retirement or discharged from the U.S. Navy.”

Categories of individuals covered by the system:

All Navy military members.

Categories of records in the system:

Name, Social Security Number (SSN), date of birth, education, training and qualifications, professional history, assignments, performance, promotions, leave and pay entitlements and deductions.

Authority for maintenance of the system:

10 U.S.C. 5013, Secretary of the Navy and E.O. 9397 (SSN), as amended.

Purpose(s):

The purpose of this system is to provide secure worldwide personnel and pay support for Navy members and their commands. To allow authorized Navy personnel and pay specialists to collect, process, modify, transmit, and store unclassified personnel and pay data. To support management of leave and pay entitlements and deductions so that this information can be provided to the Defense Finance and Accounting Service (DFAS) for payroll processing and preparation of the Leave and Earnings Statements (LES).

Routine uses of records maintained in the system, including categories of users and the purposes of such uses:

In additional to those disclosures generally permitted under 5 U.S.C. 552a(b) of the Privacy Act of 1974, these records or information contained therein may specifically be disclosed outside the DoD as a routine use pursuant to 5 U.S.C. 552a(b)(3) as follows:

The DoD `Blanket Routine Uses' that appear at the beginning of the Navy's compilation of systems of records notices apply to this system.

Policies and practices for storing, retrieving, accessing, retaining, and disposing of records in the system:

Storage:

Paper and automated records maintained by Space and Warfare Systems Center Atlantic.

Retrievability:

Records are retrieved by name and Social Security Number (SSN).

Safeguards:

Password controlled system, file, and element access based on predefined need-to-know. Physical access to terminals, terminal rooms, buildings and activities' grounds are controlled by locked terminals and rooms, guards, personnel screening and visitor registers.

Retention and disposal:

Records will be maintained by the primary record holder for current U.S. Navy members, and for 62 years after retirement or discharged from the U.S. Navy. Thereafter, records will be maintained by the secondary record holder at the National Personnel Records Center.

System manager(s) and address:

Policy Official: Commander, Navy Personnel Command (PERS-33), 5720 Integrity Drive, Millington, TN 38055-3120.

Primary Record Holder: Personnel Office or Personnel Support Detachment that provides administrative support for the local activity where assigned. Official mailing addresses are published in the Standard Navy Distribution List.

Secondary locations: Director, National Personnel Records Center, Military Personnel Records, 9700 Page Avenue, St. Louis, MO 63132-5100, for records of retired or former personnel 62 years after retirement or discharged from the U.S. Navy.

Notification procedure:

Individuals seeking to determine whether this system of records contains information about themselves should address written inquiries to the Personnel Office or Personnel Support Detachment providing administrative support for the local activity where they are assigned. Official mailing addresses are published in the Standard Navy Distribution List.

Secondary location: Director, National Personnel Records Center, Military Personnel Records, 9700 Page Avenue, St. Louis, MO 63132-5100, for records of retired or former personnel 62 years after retirement or discharge from the U.S. Navy.

The request should include full name, Social Security Number, and address of the individual concerned and should be signed. The system manager may require an original signature or a notarized signature as a means of proving the identity of the individual requesting access to the records.

Record access procedure:

Individuals seeking access to records about themselves should address written inquiries to the Personnel Office or Personnel Support Detachment providing administrative support for the local activity where they are assigned. Official mailing addresses are published in the Standard Navy Distribution List.

Secondary location: Director, National Personnel Records Center, Military Personnel Records, 9700 Page Avenue, St. Louis, MO 63132-5100, for records of retired or former personnel 62 years after retirement or discharge from the U.S. Navy.

Written requests should contain full name, Social Security Number, and address of the individual concerned and should be signed. The system manager may require an original signature or a notarized signature as a means of proving the identity of the individual requesting access to the records.

Contesting record procedures:

The Navy's rules for accessing records, and for contesting contents and appealing initial agency determinations are published in Secretary of the Navy Instruction 5211.5; 32 CFR part 701; or may be obtained from the system manager.

Records source categories:

Official records and systems maintaining personnel information, professional qualifications, and educational institutions. These records and systems include the Navy Military Personnel Records System, Enlisted Master File Automated System, Officer Master File Automated System, Reserve Command Management System, On-Line Distribution Information System, and Education and Training Records.

Exemptions claimed for the system:

None.

[FR Doc. 2010-31577 Filed 12-15-10; 8:45 am]

BILLING CODE 5001-06-P